DEPARTMENT OF STATE

[Public Notice 6527]

Termination of Statutory Debarment Pursuant to Section 38(g)(4) of the Arms Export Control Act for Electrodyne Systems Corporation, Now AdComm, Inc.

ACTION: Notice.

SUMMARY: Notice is hereby given that the Department of State has terminated the statutory debarment of Electrodyne Systems Corporation (now known as AdComm, Inc.) pursuant to section 38(g)(4) of the Arms Export Control Act (AECA) (22 U.S.C. 2778).

Effective Date: February 9, 2009.

FOR FURTHER INFORMATION CONTACT: David C. Trimble, Director, Office of Defense Trade Controls Compliance, Directorate of Defense Trade Controls, Bureau of Political-Military Affairs, Department of State (202) 663-2807.

SUPPLEMENTARY INFORMATION: Section 38(g)(4) of the AECA and section 127.11 of the International Traffic in Arms Regulations (ITAR) prohibit the issuance of export licenses or other approvals to a person if that person, or any party to the export, has been convicted of violating the AECA and certain other U.S. criminal statutes enumerated at section 38(g)(1) of the AECA and section 120.27 of the ITAR. A person convicted of violating the AECA is also subject to statutory debarment under section 127.7 of the ITAR.

In October 1996, Electrodyne Systems Corporation pled guilty to violating the AECA (U.S. District Court, District of New Jersey, 2:96-cr-00127-AJL-1). Based on this conviction, Electrodyne Systems Corporation was statutorily debarred pursuant to section 38(g)(4) of the AECA and section 127.7 of the ITAR and, thus, prohibited from participating directly or indirectly in exports of defense articles and defense services. Notice of debarment was published in the Federal Register (62 FR 14492, March 26, 1997).

Section 38(g)(4) of the AECA permits termination of debarment after consultation with the other appropriate U.S. agencies and after a thorough review of the circumstances surrounding the conviction and a finding that appropriate steps have been taken to mitigate any law enforcement concerns. The Department of State has determined that Electrodyne Systems Corporation (now AdComm, Inc.) has taken appropriate steps to address the causes of the violations and to mitigate any law enforcement concerns. Therefore, in accordance with section 38(g)(4) of the AECA, the debarment of Electrodyne Systems Corporation (now AdComm, Inc.) is rescinded, effective February 9, 2009.

Dated: February 9, 2009.
Frank J. Ruggiero,
Acting Assistant Secretary of State for Political-Military Affairs, Department of State.

[FR Doc. E9-3414 Filed 2-18-09; 8:45 am]

BILLING CODE 4710-25-P